DEPARTMENT OF THE INTERIOR

National Park Service

[NPS-WASO-NAGPRA-NPS0037760; PPWOCRADN0-PCU00RP14.R50000]

Notice of Inventory Completion: Western Washington University, Department of Anthropology, Bellingham, WA

AGENCY: National Park Service, Interior.

ACTION: Notice.

SUMMARY: In accordance with the Native American Graves Protection and Repatriation Act (NAGPRA), the Western Washington University (WWU) has completed an inventory of associated funerary objects and has determined that there is a cultural affiliation between the associated funerary objects and Indian Tribes or Native Hawaiian organizations in this notice.

DATES: Repatriation of the associated funerary objects in this notice may occur on or after May 16, 2024.

ADDRESSES: Dr. Judith Pine, Western Washington University, Department of Anthropology, Arntzen Hall 340, 516 High Street, Bellingham, WA 98225, telephone (360) 650-4783, email pinej@wwu.edu.

SUPPLEMENTARY INFORMATION: This notice is published as part of the National Park Service's administrative responsibilities under NAGPRA. The determinations in this notice are the sole responsibility of WWU, and additional information on the determinations in this notice, including the results of consultation, can be found in the inventory or related records. The National Park Service is not responsible for the determinations in this notice.

Abstract of Information Available

Human remains representing, at least, four individuals have been reasonably identified and were reported in a Notice of Inventory Completion published in the Federal Register on December 22, 2023 (88 FR 88642). The 63 associated funerary objects associated with those human remains are 63 level bags (lots) containing fragments of fauna/shell, button, charcoal, worked antler and bone, worked slate, metal, rocks and residue and are newly identified.

45-SK-37 is located in Skagit County, Washington. The site was excavated in 1960 by Dr. Herbert Taylor of Western Washington State College, now known as Western Washington University. Taylor was supervising a field school excavation with students from the college. No known individuals were identified. No hazardous chemicals are known to have been used to treat the human remains or associated funerary objects while in the custody of WWU.

The human remains and associated funerary objects have been determined to be Native American based on ethnographic, geographic, and archeological evidence. Comparison of the location of site 45-SK-37 with Suttles and Lane's map indicates that it is in an area associated with Nookachamps, Kikiallus, and Swinomish (Suttles and Lane 1990, Handbook of North American Indians, Volume 7, Northwest Coast: Figure 1). Many descendants of these cultural entities are today associated with the Swinomish Indian Tribal Community, as confirmed through consultation.

From Site 45- SK-37 in Skagit County, WA, four individuals and 63 associated funerary objects were removed.

Cultural Affiliation

Based on the information available and the results of consultation, cultural affiliation is clearly identified by the information available about the associated funerary objects described in this notice.

Determinations

WWU has determined that:

• The 63 objects described in this notice are reasonably believed to have been placed intentionally with or near individual human remains at the time of death or later as part of the death rite or ceremony.

• There is a reasonable connection between the human remains and associated funerary objects described in this notice and the Swinomish Indian Tribal Community.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the associated funerary objects in this notice to a requestor may occur on or after May 16, 2024. If competing requests for repatriation are received, WWU must determine the most appropriate requestor prior to repatriation. Requests for joint repatriation of the associated funerary objects are considered a single request and not competing requests. WWU is responsible for sending a copy of this notice to the Indian Tribes and Native Hawaiian organizations identified in this notice.

Authority: Native American Graves Protection and Repatriation Act, 25 U.S.C. 3003, and the implementing regulations, 43 CFR 10.10.

Dated: April 9, 2024.
Melanie O'Brien,
Manager, National NAGPRA Program.

[FR Doc. 2024-08047 Filed 4-15-24; 8:45 am]

BILLING CODE 4312-52-P